DEPARTMENT OF AGRICULTURE

Grain Inspection, Packers and Stockyards Administration

[04-CA-C]

Opportunity to Comment on the Applicants for the California Area

AGENCY: Grain Inspection, Packers and Stockyards Administration, USDA.

ACTION: Notice.

SUMMARY: GIPSA requests comments on the applicants for designation to provide official services in the California area.

DATES: Comments must be postmarked or electronically dated on or before April 11, 2005.

ADDRESSES: We invite you to submit comments on the applicants by any of the following methods:

• Hand Delivery or Courier: Deliver to Janet M. Hart, Chief, Review Branch, Compliance Division, GIPSA, USDA, Room 1647-S, 1400 Independence Avenue, SW., Washington, DC 20250.

• Fax: Send by facsimile transmission to (202) 690-2755, attention: Janet M. Hart.

• E-mail: Send via electronic mail to Janet.M.Hart@usda.gov.

• Mail: Send hardcopy to Janet M. Hart, Chief, Review Branch, Compliance Division, GIPSA, USDA, STOP 3604, 1400 Independence Avenue, SW., Washington, DC 20250-3604.

Read Comments: All comments will be available for public inspection at the office above during regular business hours (7 CFR 1.27(b)).

FOR FURTHER INFORMATION CONTACT: Janet M. Hart at (202) 720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the January 18, 2005, Federal Register (70 FR 2844), GIPSA announced that California Department of Food and Agriculture asked GIPSA for a voluntary cancellation of their designation effective April 30, 2005. Accordingly, California's designation will cease effective April 30, 2005, and GIPSA asked persons interested in providing official services in the California area to submit an application for designation by February 17, 2005.

There were four applicants for the California area: Farwell Commodity and Grain Services, Inc. (Farwell Southwest) an official agency designated effective April 1, 2005; a company proposing to do business as California Agri Inspection Co., Ltd. (California Agri) with the parent company of Overseas Merchandise Inspection Co., Ltd.; California Grain Inspection Services (California Grain), a partnership owned by Robert Chavez and Tim A. Walters; and Imperial Grain Inspection Service (Imperial) a partnership owned by Tim A. Walters and Debra J. Walters.

Farwell Southwest applied for designation in Imperial, San Diego, and Riverside Counties, California.

California Agri applied for designation in Alameda, Alpine, Amador, Butte, Calaveras, Colusa, Contra Costa, Del Norte, El Dorado, Glenn, Humboldt, Lake, Lassen, Marin, Mendocino, Modoc, Monterey, Napa, Nevada, Placer, Plumas, Sacramento, San Benito, San Joaquin, Santa Clara, Shasta, Sierra, Siskiyou, Solano, Sonoma, Stanislaus, Sutter, Tehama, Trinity, Tuolumne, Yolo, and Yuba, Counties, California.

California Grain applied for designation in Corcoran, Fresno, Imperial, Kern, Kings, Los Angeles, Madera, Merced, Monterey, Orange, Riverside, San Bernardino, San Diego, San Luis Obispo, Tulare, and Ventura Counties, California.

The proposed applicants named above indicated they would be willing to accept more or less area in order to provide needed service to all requestors.

Imperial applied for designation only in Imperial, San Bernardino, San Diego, and Riverside Counties, California.

GIPSA is publishing this notice to provide interested persons the opportunity to present comments concerning the applicants. Commenters are encouraged to submit reasons and pertinent data for support or objection to the designation of the applicants. All comments must be submitted to the Compliance Division at the above address. Comments and other available information will be considered in making a final decision. GIPSA will publish notice of the final decision in the Federal Register, and GIPSA will send the applicants written notification of the decision.

Authority: Pub. L. 94-582, 90 Stat. 2867, as amended (7 U.S.C. 71 et seq.).

Dated: March 4, 2005.
David R. Shipman,
Deputy Administrator, Grain Inspection, Packers and Stockyards Administration.

[FR Doc. 05-4703 Filed 3-9-05; 8:45 am]

BILLING CODE 3410-EN-P